DEPARTMENT OF ENERGY

Federal Energy Regulatory Commission

[Project No. 2788-017]

Goodyear Lake Hydro, LLC; Notice Soliciting Scoping Comments

Take notice that the following hydroelectric application has been filed with the Commission and is available for public inspection.

a. Type of Application: Subsequent Minor License.

b. Project No.: 2788-017.

c. Date filed: February 27, 2017.

d. Applicant: Goodyear Lake Hydro, LLC (Goodyear Lake Hydro).

e. Name of Project: Colliersville Hydroelectric Project.

f. Location: On the North Branch of the Susquehanna River, in the Town of Milford, Otsego County, New York. The project does not occupy lands of the United States.

g. Filed Pursuant to: Federal Power Act 16 U.S.C. 791(a)-825(r).

h. Applicant Contact: Mr. Kevin Webb, Hydro Licensing Manager; Enel Green Power North America, Inc., 100 Brickstone Square, Suite 300, Andover, MA 01810; (978) 935-6039; kevin.webb@enel.com.

i. FERC Contact: Emily Carter, (202) 502-6512 or emily.carter@ferc.gov.

j. Deadline for filing scoping comments: 30 days from the issuance date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2788-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description.

The existing Colliersville Hydroelectric Project consists of: (1) A dam that includes: A 200-foot-long, 35-foot-high, reinforced-concrete, Ambursen-type dam or spillway structure ¹ with a crest elevation of 1,150.22 feet National Geodetic Vertical Datum of 1929 (NGVD 29); a 50-foot-wide concrete headgate structure located on the west side of the river and adjacent to the spillway, forming the closure with the west bank; and an L-shaped, 66-foot-long, concrete wall with one side along the east side of the spillway and the other side parallel to the axis of the dam, extending approximately 6 to 8 feet above the crest of the dam; (2) a 364-acre reservoir (Goodyear Lake) with a gross storage capacity of 7,800 acre-feet at a normal pool elevation of 1,150.22 feet NGVD29; (3) a 550-foot-long reinforced concrete power canal, approximately 50 feet wide and 6 feet deep at the head gates, extending from a head gate structure adjacent to the dam (i.e., the intake) to the powerhouse; (4) a 103-foot-long by 33-foot-wide reinforced concrete powerhouse with trash racks with a clear spacing of 1.5 inches, and containing two turbines rated at 850 horsepower (HP) and 1,150 HP, and two generators having a rated capacity of 650 kilowatts (kW) and 850 kW, respectively; (5) a 300-foot-long and approximately 50- to 60-foot-wide tailrace; (6) three, approximately 80-foot-long, 4.16-kilovolt underground generator leads or transmission lines from the powerhouse to an adjacent substation owned by the New York State Electric and Gas Corporation; and (7) appurtenant facilities.

¹ A type of buttress dam of which the upstream part is a relatively thin flat slab usually made of reinforced concrete. A buttress dam consists of watertight parts supported at intervals on the downstream side by a series of buttresses.

Goodyear Lake Hydro operates the project in a run-of-river mode. The project experiences substantial seasonal and annual variations in generation, and generates an annual average of 5,985 megawatt-hours. Goodyear Lake Hydro proposes to continue to operate the project in run-of-river mode.

m. A copy of the application is available for review at the Commission in the Public Reference Room or may be viewed on the Commission's web site at http://www.ferc.gov using the eLibrary link. Enter the docket number excluding the last three digits in the docket number field to address the document. For assistance, contact FERC Online Support. A copy is available for inspection and reproduction at the address in item h above.

n. You may also register online at http://www.ferc.gov/docs-filing/esubscription.asp to be notified via email of new filings and issuances related to this or other pending projects. For assistance, contact FERC Online Support.

o. Scoping Process

The Commission staff intends to prepare an Environmental Assessment (EA) for the Colliersville Hydroelectric Project in accordance with the National Environmental Policy Act. The EA will consider both site-specific and cumulative environmental impacts and reasonable alternatives to the proposed action.

Commission staff does not propose to conduct any on-site scoping meetings at this time. Instead, we are soliciting comments, recommendations, and information, on the Scoping Document 1 (SD1) issued December 20, 2017.

Copies of SD1 outlining the subject areas to be addressed in the EA were distributed to the parties on the Commission's mailing list. Copies of SD1 may be viewed on the web at http://www.ferc.gov using the eLibrary link. Enter the docket number excluding the last three digits in the docket number field to access the document. For assistance, call 1-866-208-3676 or for TTY, (202) 502-8659.

Dated: December 20, 2017.
Kimberly D. Bose,
Secretary.

[FR Doc. 2017-27917 Filed 12-26-17; 8:45 am]

BILLING CODE 6717-01-P